DEPARTMENT OF VETERANS AFFAIRS

[OMB Control No. 2900-0571]

Agency Information Collection Activities Under OMB Review

AGENCY: National Cemetery Administration, Department of Veterans Affairs.

ACTION: Notice.

SUMMARY: In compliance with the Paperwork Reduction Act (PRA) of 1995 (44 U.S.C. 3501-21), this notice announces that the National Cemetery Administration (NCA), Department of Veterans Affairs, has submitted the collection of information abstracted below to the Office of Management and Budget (OMB) for review and comment. The PRA submission describes the nature of the information collection and its expected cost and burden and it includes the actual data collection instrument.

DATES: Comments must be submitted on or before November 24, 2003.

FOR FURTHER INFORMATION OR A COPY OF THE SUBMISSION CONTACT: Denise McLamb, Records Management Service (005E3), Department of Veterans Affairs, 810 Vermont Avenue, NW., Washington, DC 20420, (202) 273-8030, Fax (202) 273-5981 or e-mail denise.mclamb@mail.va.gov. Please refer to “OMB Control No. 2900-0571” in any correspondence.

Send comments and recommendations concerning any aspect of the information collection to VA's OMB Desk Officer, OMB Human Resources and Housing Branch, New Executive Office Building, Room 10235, Washington, DC 20503, (202) 395-7613. Please refer to “OMB Control No. 2900-0571” in any correspondence.

SUPPLEMENTARY INFORMATION: Title: Generic Clearance for the National Cemetery Administration (NCA) and the Office of Inspector General (IG) Customer Satisfaction Surveys.

OMB Control Number: 2900-0571.

Type of Review: Extension of a currently approved collection.

Abstract: Executive Order 12862, Setting Customer Service Standards, requires Federal agencies and Departments to identify and survey its customers to determine the kind and quality of services they want and their level of satisfaction with existing service. NCA and IG use customer satisfaction surveys to gauge customer perceptions of VA services as well as customer expectations and desires. The results of these information collections lead to improvements in the quality of VA service delivery by helping to shape the direction and focus of specific programs and services.

An agency may not conduct or sponsor, and a person is not required to respond to a collection of information unless it displays a currently valid OMB control number. The Federal Register Notice with a 60-day comment period soliciting comments on this collection of information was published on July 29, 2003, at pages 44563-44565.

Affected Public: Business or Other for-Profit and State, Local or Tribal Government.

Listing of Survey Activities: The following list of activities is a compendium of customer satisfaction survey plans by the NCA and IG. The actual conduct of any particular activity listed could be affected by circumstances. A change in, or refinement of, our focus in a specific area, as well as resource constraints could require deletion or substitution of any listed item. If these organizations substitute or propose to add a new activity that falls under the umbrella of this generic approval, including those activities that are currently in a planning stage, OMB will be notified and will be furnished a copy of pertinent materials, a description of the activity and number of burden hours involved. NCA and IG will conduct periodic reviews of ongoing survey activities to ensure that they comply with the PRA.

Year | Number of respondents | Estimated annual burden hours | Frequency
I. National Cemetery Administration
Focus Groups With Next of Kin (10 Participants per Group/3 Hours Each Session)
2004 | 50 | 150 | 5 Groups Annually.
2005 | 50 | 150 | 5 Groups Annually.
2006 | 50 | 150 | 5 Groups Annually.
Focus Groups With Funeral Directors (10 Participants per Group/3 Hours Each Session)
2004 | 50 | 150 | 5 Groups Annually.
2005 | 50 | 150 | 5 Groups Annually.
2006 | 50 | 150 | 5 Groups Annually.
Focus Groups With Veterans Service Organizations (10 Participants per Group/3 Hours Each Session)
2004 | 50 | 150 | 5 Groups Annually.
2005 | 50 | 150 | 5 Groups Annually.
2006 | 50 | 150 | 5 Groups Annually.
Visitor Comments Cards (Local Use) (2,500 Respondents/5 Minutes per Response)
2004 | 2,500 | 208 | Annually.
2005 | 2,500 | 208 | Annually.
2006 | 2,500 | 208 | Annually.
Next of Kin National Customer Satisfaction Survey (Mail to 15,000 Respondents/30 Minutes per Response)
2004 | 15,000 | 7,500 | Annually.
2005 | 15,000 | 7,500 | Annually.
2006 | 15,000 | 7,500 | Annually.
Funeral Directors National Customer Satisfaction Survey (Mail to 4,000 Respondents/30 Minutes per Response)
2004 | 4,000 | 2,000 | Annually.
2005 | 4,000 | 2,000 | Annually.
2006 | 4,000 | 2,000 | Annually.
Veterans-at-Large National Customer Satisfaction Survey (Mail to 5,000 Respondents/30 Minutes per Response)
2004 | 5,000 | 2,500 | Annually.
2005 | 5,000 | 2,500 | Annually.
2006 | 5,000 | 2,500 | Annually.
Program/Specialized Service Survey (Mail to 2,000 Respondents/15 Minutes per Response)
2004 | 2,000 | 500 | Annually.
2005 | 2,000 | 500 | Annually.
2006 | 2,000 | 500 | Annually.
II. Office of Inspector General
Patient Questionnaire (1,440 Respondents/10 Minutes per Response)
2004 | 1,440 | 240 | Annually.
2005 | 1,440 | 240 | Annually.
2006 | 1,440 | 240 | Annually.

Most customer satisfaction surveys will be recurring so that NCA and IG can create and maintain ongoing measures of performance and to determine how well VA meets customer service standards. Each collection of information will consist of the minimum amount of information necessary to determine customer needs and to evaluate each organization's performance. NCA expects to conduct 15 focus groups annually involving a total of 450 hours during the approval period. In addition, NCA expects to conduct mail surveys with a total annual burden of 12,000 hours and will distribute comment cards with a total annual burden of 208 hours. NCA also plans to conduct mail surveys with customers of specific programs (e.g. Headstones and Markers, Presidential Memorial Certificates, State Veterans Cemeteries) to determine levels of service satisfaction. Program specific surveys are estimated at 500 burden hours annually during the approval period. The IG expects to distribute 1,440 surveys to patients with a total annual burden of 240 hours.

Dated: October 8, 2003.
By direction of the Secretary.
Jacqueline Parks,
IT Specialist, Records Management Service.

[FR Doc. 03-26688 Filed 10-22-03; 8:45 am]

BILLING CODE 8320-01-P